ENVIRONMENTAL PROTECTION AGENCY

40 CFR Part 300

[FRL-7794-7]

National Oil and Hazardous Substances Pollution Contingency Plan; National Priorities List

AGENCY: Environmental Protection Agency.

ACTION: Notice of deletion for the Niagara County Refuse Superfund site from the National Priorities List.

SUMMARY: The U.S. Environmental Protection Agency (EPA) Region II Office announces the deletion of the Niagara County Refuse Superfund site from the National Priorities List (NPL). The Niagara County Refuse site is located in the Town of Wheatfield, Niagara County, New York. The NPL constitutes Appendix B to the National Oil and Hazardous Substances Pollution Contingency Plan (NCP), 40 CFR part 300, which EPA promulgated pursuant to section 105 of the Comprehensive Environmental Response, Compensation, and Liability Act of 1980 (CERCLA), as amended. EPA and New York State, through the Department of Environmental Conservation (NYSDEC) have determined that all appropriate response actions have been implemented and no further response actions, other than operation, maintenance, and monitoring, are required. In addition, EPA and the NYSDEC have determined that the remedial action taken at the Niagara County Refuse site is protective of public health, welfare, and the environment.

EFFECTIVE DATE: July 30, 2004.

FOR FURTHER INFORMATION CONTACT: Michael J. Negrelli, Remedial Project Manager, U.S. Environmental Protection Agency, Region II, 290 Broadway, 20th Floor, New York, New York 10007-1866, (212) 637-4278.

SUPPLEMENTARY INFORMATION: To be deleted from the NPL is: the Niagara County Refuse Superfund site, Town of Wheatfield, Niagara County, New York.

A Notice of Intent to Delete for the Niagara County Refuse site was published in the Federal Register on March 17, 2004. The closing date for comments on the Notice of Intent to Delete was April 16, 2004. EPA received two comments on the proposed deletion during the public comment period. Both comments were from local residents opposed to the deletion due to historical flooding problems experienced at their homes associated with wetlands adjacent to the landfill and their properties. The commentors assigned a portion of the blame for the flooding to the presence of the landfill and EPA's actions at the landfill. In response, EPA notes that research shows that poor drainage and flooding were evident at least as far back as the 1970s and that both federal and State designated wetlands located to the north of the site have been regulated since the late 1970s. Steps were taken during the remediation of the landfill to minimize or reduce the impacts of increased surface water drainage to an already existing flood prone environment. EPA's decision to propose the site for delisting is based on the successful implementation of the multi-layered cap remedy to contain landfill wastes to prevent the migration of contaminants into the surrounding environment, thereby mitigating risks to human health and the environment. The monitoring data collected on a regular basis since the construction of the remedy was completed in December 2000 confirm that the remedy is operating as designed and is protective of human health and the environment. EPA identifies sites that appear to present a significant risk to public health, welfare, or the environment and it maintains the NPL as the list of those sites. As described in § 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution controls, Chemicals, Hazardous substances, Hazardous waste, Intergovernmental relations, Penalties, Reporting and recordkeeping requirements, Superfund, Water pollution control, Water supply.

Dated: July 6, 2004.
Walter Mugdan,
Acting Regional Administrator, Region II.

For the reasons set out in the preamble, part 300, Chapter I of Title 40 of the Code of Federal Regulations, is amended as follows:

PART 300—[AMENDED]

1. The authority citation for part 300 continues to read as follows:

Authority: 42 U.S.C. 9601-9675; 33 U.S.C. 1321(c)(2); E.O. 12777, 56 FR 54757, 3 CFR., 1991 Comp., p. 351; E.O. 12580, 52 FR 2923, 3 CFR, 1987 Comp., p. 193.

Appendix B—[Amended]

2. Table 1 of Appendix B to Part 300 is amended by removing “Niagara County Refuse, Town of Wheatfield, New York.”

[FR Doc. 04-17374 Filed 7-29-04; 8:45 am]

BILLING CODE 6560-50-P